COMMISSION ON CIVIL RIGHTS

Sunshine Act Notice

AGENCY: United States Commission on Civil Rights.

ACTION: Notice of meeting and briefing.

Date and Time: Friday, February 8; 9 a.m.

Place: U.S. Commission on Civil Rights, 624 Ninth Street, NW., Rm. 540, Washington, DC 20425.

Meeting Agenda

I. Approval of Agenda

II. Approval of Minutes of January 11 Meeting

III. Management and Operations

• Transition Issues

IV. Adjourn Meeting

Briefing Agenda

Topic: Religious Discrimination in Prisons

I. Introductory Remarks by Chairman

II. Speakers' Presentations

III. Questions by Commissioners and Staff Director

IV. Adjourn Briefing

Contact Person for Further Information: Sock-Foon MacDougall, Acting Chief, Public Affairs Unit (202) 376-8582.

Dated: January 29, 2008.
David Blackwood,
General Counsel.

[FR Doc. 08-461 Filed 1-29-08; 2:27 pm]

BILLING CODE 6335-01-P